DEPARTMENT OF COMMERCE

International Trade Administration

[A-570-972; A-583-848]

Certain Stilbenic Optical Brightening Agents From the People's Republic of China and Taiwan: Continuation of Antidumping Duty Orders

AGENCY: Enforcement and Compliance, International Trade Administration, Department of Commerce.

DATES: Applicable November 27, 2017.

SUMMARY: As a result of the determinations by the Department of Commerce (the Department) and the U.S. International Trade Commission (ITC) that revocation of the antidumping duty orders on certain stilbenic optical brightening agents (stilbenic OBAs) from the People's Republic of China (PRC) and Taiwan would likely lead to continuation or recurrence of dumping and material injury to an industry in the United States, the Department is publishing a notice of continuation of the antidumping duty orders.

FOR FURTHER INFORMATION CONTACT: Eli Lovely, AD/CVD Operations, Office IV, Enforcement and Compliance, International Trade Administration, U.S. Department of Commerce, 1401 Constitution Avenue NW., Washington, DC 20230; telephone (202) 482-1593.

SUPPLEMENTARY INFORMATION: On April 3, 2017, the Department published the notice of initiation of the first sunset reviews of the antidumping duty orders on stilbenic OBAs from the PRC and Taiwan pursuant to section 751(c) of the Tariff Act of 1930, as amended (the Act).¹

¹ See Initiation of Five-Year (Sunset) Reviews, 82 FR 16159 (April 3, 2017).

As a result of its review, the Department determined that revocation of the antidumping duty orders on certain stilbenic OBAs from the PRC and Taiwan would likely lead to continuation or recurrence of dumping and, therefore, notified the ITC of the magnitude of the margins of dumping likely to prevail should the orders be revoked.²

² See Certain Stilbenic Optical Brightening Agents from the People's Republic of China and Taiwan: Final Results of the Expedited Sunset Reviews of the Antidumping Duty Orders, 82 FR 36732 (August 7, 2017).

On October 27, 2017, the ITC published its determination, pursuant to section 751(c)(1) of the Act, that revocation of the antidumping duty orders on certain stilbenic OBAs from the PRC and Taiwan would be likely to lead to continuation or recurrence of material injury to an industry in the United States within a reasonably foreseeable time.³

³ See USITC Publication 4737 (October 2017), entitled Certain Stilbenic Optical Brightening Agents from China and Taiwan: Investigation Nos. 731-TA-1186-1187 (Review).

Scope of the Orders

The stilbenic OBAs covered by the orders are all forms (whether free acid or salt) of compounds known as triazinylaminostilbenes (i.e., all derivatives of 4,4′-bis [1,3,5-triazin-2-yl] ⁴ amino-2,2′-stilbenedisulfonic acid), except for compounds listed in the following paragraph. The stilbenic OBAs covered by the orders include final stilbenic OBA products, as well as intermediate products that are themselves triazinylaminostilbenes produced during the synthesis of stilbenic OBA products.

⁴ The brackets in this sentence are part of the chemical formula.

Excluded from the orders are all forms of 4,4′-bis[4-anilino-6-morpholino-1,3,5-triazin-2-yl] ⁵ amino-2,2′-stilbenedisulfonic acid, C40H40N12O8S2 (Fluorescent Brightener 71). The orders cover the above-described compounds in any state (including but not limited to powder, slurry, or solution), of any concentrations of active stilbenic OBA ingredient, as well as any compositions regardless of additives (i.e., mixtures or blends, whether of stilbenic OBAs with each other, or of stilbenic OBAs with additives that are not stilbenic OBAs), and in any type of packaging.

⁵ Id.

These stilbenic OBAs are classifiable under subheading 3204.20.8000 of the Harmonized Tariff Schedule of the United States (HTSUS), but they may also enter under subheadings 2933.69.6050, 2921.59.4000 and 2921.59.8090. Although the HTSUS subheadings are provided for convenience and customs purposes, the written description of the merchandise is dispositive.

Continuation of the Orders

As a result of these determinations by the Department and the ITC that revocation of the antidumping duty orders would be likely to lead to continuation or recurrence of dumping and material injury to an industry in the United States, pursuant to section 751(d)(2) of the Act, the Department hereby orders the continuation of the antidumping orders on certain stilbenic OBAs from the PRC and Taiwan. U.S. Customs and Border Protection will continue to collect antidumping duty cash deposits at the rates in effect at the time of entry for all imports of subject merchandise. The effective date of the continuation of these orders will be the date of publication in the Federal Register of this notice of continuation. Pursuant to section 751(c)(2) of the Act, the Department intends to initiate the next five-year review of the orders not later than 30 days prior to the fifth anniversary of the effective date of continuation.

This five-year (sunset) review and this notice are in accordance with section 751(c) of the Act and published pursuant to section 777(i)(1) of the Act.

Dated: November 20, 2017.
Gary Taverman,
Deputy Assistant Secretary for Antidumping and Countervailing Duty Operations, performing the non-exclusive functions and duties of the Assistant Secretary for Enforcement and Compliance.

[FR Doc. 2017-25537 Filed 11-24-17; 8:45 am]

BILLING CODE 3510-DS-P